DEPARTMENT OF TRANSPORTATION

Pipeline and Hazardous Materials Safety Administration

[Docket No. PHMSA-2013-0210, Notice No. 13-16]

Safety Advisory: Unauthorized Marking of Compressed Gas Cylinders

AGENCY: Pipeline and Hazardous Materials Safety Administration (PHMSA), DOT.

ACTION: Safety Advisory Notice.

SUMMARY: PHMSA is issuing this safety advisory to notify the public of the unauthorized marking of high pressure compressed gas cylinders by Beauchesne Fire Equipment located at 21 Freeman St. Attleboro Falls, MA.

FOR FURTHER INFORMATION CONTACT: Chris Michalski, Senior Hazardous Materials Investigator, Eastern Region, Office of Hazardous Materials Safety, Pipeline and Hazardous Materials Safety Administration, U.S. Department of Transportation, 820 Bear Tavern Road, Suite 306, West Trenton, NJ 08034. Telephone: (609) 989-2256, Fax: (609) 989-2277 or, via email: chris.michalski@dot.gov

SUPPLEMENTARY INFORMATION: Agents from the U.S. DOT Inspector General's Office in Cambridge, MA, with assistance from a PHMSA investigator from the Eastern Region Field Operations Office, recently conducted an investigation into allegations that Beauchesne Fire Equipment (BFE) represented high pressure DOT specification and special permit cylinders as requalified in accordance with the Hazardous Materials Regulations (HMR; 49 CFR Part 171-180) without conducting the required hydrostatic testing. The investigation revealed that BFE marked approximately 5,900 high pressure compressed gas cylinders with test dates and Requalifier Identification Number (RIN) H557 in 2011 and 2012 without conducting the prescribed hydrostatic testing of these cylinders.

On May 14, 2013, Aaron Beauchesne, the owner of BFE, pleaded guilty in the U.S. District Court, District of Massachusetts to violating the Federal hazardous materials transportation law (49 U.S.C. 5101-5128) relating to testing and requalification of compressed gas cylinders.

A cylinder requalification consisting of a visual inspection and a hydrostatic test, conducted as prescribed in the HMR, is used to verify the structural integrity of a cylinder. If the requalification is not performed in accordance with the HMR, a cylinder with compromised structural integrity may be returned to service when it is not safe or authorized for use. Extensive property damage, serious personal injury, or death could result from rupture of a cylinder.

On September 18, 2013, PHMSA terminated the RIN Approval H557 issued to Beauchesne Fire Equipment. Any cylinder stamped with the RIN H557 with a test date in 2011 or 2012 should be considered unsafe and not authorized to be filled with hazardous material unless the cylinder is first properly visually examined and hydrostatically tested by an individual or company authorized to requalify DOT specification cylinders. Cylinders described in this safety advisory that are filled with an atmospheric gas should be vented or otherwise safely discharged. Cylinders that are filled with a material other than an atmospheric gas should not be vented, but instead should be safely discharged. Prior to refilling, the cylinders must be taken to a DOT-authorized cylinder requalifier to ensure their suitability for continued service. A list of authorized requalifiers may be obtained at this Web site: http://www.phmsa.dot.gov/hazmat/regs/sp-a/approvals/cylinders.

Issued in Washington, DC, on September 18, 2013.
R. Ryan Posten,
Deputy Associate Administrator for Hazardous Materials Safety.

[FR Doc. 2013-23104 Filed 9-23-13; 8:45 am]

BILLING CODE 4910-60-P